DEPARTMENT OF HOMELAND SECURITY

Federal Emergency Management Agency

[Docket ID FEMA-2007-0008]

National Advisory Council

AGENCY: Federal Emergency Management Agency, DHS.

ACTION: Committee Management; Request for Applicants for Appointment to the National Advisory Council.

SUMMARY: The Federal Emergency Management Agency (FEMA) is requesting individuals who are interested in serving on the National Advisory Council (NAC) to apply for appointment. As provided for in the Department of Homeland Security Appropriations Act of 2007, the NAC shall advise the Administrator of the Federal Emergency Management Agency (FEMA) on all aspects of emergency management. The NAC shall incorporate State, local and tribal government and private sector input in the development and revision of the national preparedness goal, the national preparedness system, the National Incident Management System, the National Response Plan, and other related plans and strategies. Currently, the NAC consists of 35 members, all of whom are experts and leaders in their respective fields. The terms for nine positions on the Council will expire June 15, 2012. FEMA invites interested applicants to apply as identified in this notice.

DATES: The membership application period is from Friday, February 10, 2012 to Friday, March 9, 2012, 5 p.m. EST.

ADDRESSES: Applications for membership should be submitted by:

• Email: FEMA-NAC@dhs.gov.

• Fax: (540) 504-2331.

• Mail: The National Advisory Council Office, Federal Emergency Management Agency (Room 832), 500 C Street SW., Washington, DC 20472-3100.

FOR FURTHER INFORMATION CONTACT: Alexandra Woodruff, The Office of the National Advisory Council, Federal Emergency Management Agency (Room 832), 500 C Street SW., Washington, DC 20472-3100; telephone (202) 646-3746; fax (540) 504-2331; and email FEMA-NAC@dhs.gov. For more information on the National Advisory Council, please visit http://www.fema.gov/about/nac.

SUPPLEMENTARY INFORMATION: The National Advisory Council (NAC) is an advisory committee established in accordance with the provisions of the Federal Advisory Committee Act (FACA), 5 U.S.C. App. 1, et seq. (Pub. L. 92-463). As required by the Homeland Security Act, the Secretary of Homeland Security established the NAC to ensure effective and ongoing coordination of Federal preparedness, protection, response, recovery, and mitigation for natural disasters, acts of terrorism, and other man-made disasters (6 U.S.C. 318). The Federal Emergency Management Agency (FEMA) is requesting individuals who are interested in serving on the NAC to apply for appointment. The terms for nine positions on the Council will expire June 15, 2012. Accordingly, the following discipline areas are open for applications and nominations: Emergency Management (one representative appointment), Emergency Response (two representative appointments), State Elected Official (one representative appointment), FEMA Administrator Selection (one representative or Special Government Employee (SGE) appointment), In-Patient Medical Provider (one SGE appointment), Cyber Security (one SGE appointment), and Local Elected Official (one representative appointment). Additionally, there is an Ex Officio position for a representative from Homeland Security Advisory Council which will be filled by a current member of the Homeland Security Advisory Council.

Qualified individuals interested in serving on the NAC are invited to apply for appointment by submitting a Resume or Curriculum Vitae (CV) to the Office of the National Advisory Council as listed in the ADDRESSES section of this notice. Letters of recommendation may also be provided, but are not required. Applications must include the following information: the applicant's full name, home and business phone numbers, preferred email address, home and business mailing addresses, current position title & organization, and the discipline area of interest (i.e., Emergency Management). Current Council members whose terms are ending should notify the Office of the National Advisory Council of their interest in reappointment in lieu of submitting a new application, and if desired, provide an updated resume or CV and letters of recommendation for consideration.

Appointees may be designated as Special Government Employees (SGE) as defined in section 202(a) of title 18, United States Code, or as a Representative appointment. Candidates selected for appointment as SGEs are required to complete a Confidential Financial Disclosure Form (Office of Government Ethics (OGE) Form 450). OGE Form 450 or the information contained therein may not be released to the public except under an order issued by a Federal court or as otherwise provided under the Privacy Act (5 U.S.C. 552a). This form can be obtained by visiting the Web Site of the Office of Government Ethics (), or by contacting the Office of the National Advisory Council. Contact information is provided in the FOR FURTHER INFORMATION CONTACT section of this notice.

The NAC will meet in plenary session approximately once per quarter. With respect to the quarterly meetings, it is anticipated that the Council will hold at least one teleconference meeting with public call-in lines. Members may be reimbursed for travel and per diem, and all travel for Council business must be approved in advance by the Designated Federal Officer. The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions. Registered lobbyists, current FEMA employees, Disaster Assistance Employees, FEMA Contractors, and potential FEMA Contractors will not be considered for membership.

W. Craig Fugate,
Administrator, Federal Emergency Management Agency.

[FR Doc. 2012-3845 Filed 2-17-12; 8:45 am]

BILLING CODE 9111-48-P